DEPARTMENT OF DEFENSE

Office of the Secretary

[Docket ID: DoD-2025-OS-0078]

Proposed Collection; Comment Request

AGENCY: Office of the Under Secretary of Defense for Personnel and Readiness (OUSD(P&R)), Department of Defense (DoD).

ACTION: 30-Day information collection notice.

SUMMARY: The DoD has submitted to OMB for clearance the following proposal for collection of information under the provisions of the Paperwork Reduction Act.

DATES: Consideration will be given to all comments received by March 4, 2026.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Statement of Disposition of Civilian Remains, DD Form 3004; OMB Control Number 0704-AABF.

Type of Request: Existing Collection W/O OMB Number.

Number of Respondents: 60.

Responses per Respondent: 1.

Annual Responses: 60.

Average Burden per Response: 1 hour.

Annual Burden Hours: 60 hours.

Needs and Uses: The information collection requirement is necessary to obtain and document the selection (as applicable) of the Person Authorized to Effect Disposition (PAED), who is authorized to direct disposition of human remains of decedents. As stated in 10 United States Code section 1481, `Recovery, Care, and Disposition of Remains: Decedents Covered,' the DoD may provide for the recovery, care, and disposition of the remains for active-duty Regulars, Reserve Component members, applicants, trainees, military prisoners, and others. The DoD is further authorized, per section 1482 and section 1482a to provide reimbursement, cover expenses, or otherwise provide mortuary services for decedents, including civilian employees serving with the armed forces. In order to provide reimbursement or these services, the DoD is charged with electing and documenting the elections of PAED of the remains, to whom the payment/reimbursement is made.

Affected Public: Individuals and households.

Frequency: As required.

DOD Clearance Officer: Mr. Reginald Lucas.

Dated: January 28, 2026.
Stephanie J. Bost,
Alternate OSD Federal Register Liaison Officer, Department of Defense.

[FR Doc. 2026-01958 Filed 1-30-26; 8:45 am]

BILLING CODE 6001-FR-P